DEPARTMENT OF HOUSING AND URBAN DEVELOPMENT

[Docket No.: FR-6156-N-01]

Removal of Obsolete and Superseded Guidance Documents

AGENCY: Office of the Secretary, HUD.

ACTION: Notice.

SUMMARY: As part of the Department's continuing effort to implement Executive Orders 13771, “Reducing Regulation and Controlling Regulatory Costs,” and 13777, “Enforcing the Regulatory Reform Agenda,” this notice announces that the Department has completed a comprehensive review of all administrative guidance and that certain guidance documents deemed unnecessary and obsolete will be removed from HUD's program websites. The removal of this unnecessary and obsolete guidance material will reduce compliance burdens, promote regulatory analysis, fair notice and administrative due process. This is the first phase of document removal; HUD anticipates a second phase of removal of obsolete guidance. The removal of this material will make it easier for HUD constituents and members of the public seeking to determine the guidance that currently applies. In some cases, documents may continue to be accessible in an online archive, such as for historical or research purposes. The archived documents will be clearly marked to indicate that such documents are no longer applicable.

FOR FURTHER INFORMATION CONTACT: For questions about Community Planning and Development documents, contact Larry B. Jackson II, Program Advisor to the Assistant Secretary, Office of Community Planning and Development, Department of Housing and Urban Development, 451 7th Street SW, Washington, DC 20410-8000; telephone number 202-402-5433. For questions about Office of Housing documents, contact Paul M. Olin, Management Analyst, Office of Housing, Department of Housing and Urban Development, 451 7th Street SW, Washington, DC 20410-8000; telephone number 202-402-3672. For questions about Public and Indian Housing documents, contact Merrie Nichols-Dixon, Office of Public and Indian Housing, Office of Policy, Programs, and Legislative Initiatives, Department of Housing and Urban Development, 451 7th Street SW, Washington, DC 20410-8000; telephone number 202-402-4673 (these are not toll-free numbers). Hearing- and speech-impaired persons may access these numbers through TTY by calling the Federal Relay Service at 800-877-8339 (this is a toll-free number).

SUPPLEMENTARY INFORMATION: On February 24, 2017, the President issued Executive Order 13777, entitled “Enforcing the Regulatory Reform Agenda.” Among other things, section 2(iv) of this Executive Order requires agencies to terminate consistent with applicable law, “programs or activities that derive from or implement Executive Orders, guidance documents, policy memoranda, rule interpretations, and similar documents, or relevant portions thereof, that have been rescinded or that were terminated during the fiscal year.” Consistent with this Executive Order, the Department has begun several initiatives to evaluate existing regulations and guidance to identify those that may merit repeal, replacement or modification. See, e.g., 82 FR 22344, May 15, 2017 and 83 FR 3635, January 26, 2018. As part of this effort, the Department conducted a comprehensive review of its administrative guidance documents to identify those that are unnecessary and obsolete. These guidance documents provide important information about HUD programs by elaborating and explaining statutory or regulatory requirements. Directives should generally not impose requirements unless there is an underlying statutory or regulatory basis for the directive containing requirements. These documents are posted on HUD's website for the public to review.

Due to the multiplicity of guidance documents, which includes large numbers of expired guidance documents, some of which date back many years, HUD has determined that it may be difficult for members of the public to readily determine which guidance currently applies to HUD-related activities. Furthermore, HUD's program web pages provide a great deal of information about HUD's policies, but may be difficult for the public and HUD's constituents to use because they do not clearly delineate which policy documents are currently applicable. There is no single source that identifies HUD's rescinded and expired guidance documents, with the result that it can be difficult to ascertain which guidance documents are no longer in effect. This may increase the difficulty and cost of compliance.

To reduce this burden and reduce costs of compliance, HUD identified guidance documents that are unnecessary and obsolete or expired. This notice announces that HUD is removing obsolete and expired guidance documents from its main program websites. This will result in a large reduction of documents that members of the public have to sift to find their particular relevant materials. For historical and research purposes, some of the former guidance may be placed into an archive. The archive will be clearly marked as such to avoid confusion.

In order to clarify which guidance documents are no longer in effect, the following Appendices list the obsolete guidance documents that HUD is removing, or removing and archiving, pursuant to this initiative. HUD at this time is removing or archiving 671 obsolete guidance documents.

Environmental Impact

This notice does not (i) direct, provide for assistance or loan and mortgage insurance for, or otherwise govern or regulate, real property acquisition, disposition, leasing (other than tenant-based rental assistance), rehabilitation, alteration, demolition, or new construction; or (ii) Establish, revise, or provide for standards for construction or construction materials, manufactured housing, or occupancy, and therefore is categorically excluded from environmental review under 24 CFR 50.19(c)(1).

Dated: April 1, 2019.
Benjamin S. Carson, Sr.,
Secretary.

Appendix A—Public and Indian Housing Notices
Name of document | Date | Arch. | Remove
1. Federal Fiscal Year 2017 Funding Provisions for the Housing Choice Voucher Program—Award of Remaining Set-Aside Funds | 12/05/2017 |  | X
2. Guidance Related to (1) Eligibility for Potential Shortfall Funding Under the Calendar Year (CY) 2017 Housing Assistance Payments (HAP) Renewal Set-Aside for the Housing Choice Voucher (HCV) Program and (2) CY 2017 Administrative Fees | 04/26/2017 |  | X
3. Amendment—Public Housing Operating Subsidy Eligibility Calculations for Calendar Year 2015 | 10/04/2016 |  | X
4. Funding Availability for Tenant-Protection Vouchers for Certain at Risk Households in Low-Vacancy Areas—FY16 | 08/18/2016 |  | X
5. Public Housing Operating Subsidy Eligibility Calculations for Calendar Year 2016 | 06/09/2016 |  | X
6. Implementation of the Federal Fiscal Year (FFY) 2016 Funding Provisions for the Housing Choice Voucher Program | 03/10/2016 |  | X
7. Process for Public Housing Agency Voluntary Transfers and Consolidations of Housing Choice Vouchers, Five-Year Mainstream Vouchers, Project-Based Vouchers and Project-Based Certificates • Attachment 1—Checklist HCV Transfer or Consolidations • Attachment 2—Additional Questions—Details for HCV Transfers | 12/16/2015 |  | X
8. Public Housing Operating Subsidy Eligibility Calculations for Calendar Year 2016 | 12/13/2015 |  | X
9. Changes to Flat Rent Requirements—FY 2015 Appropriations Act | 09/08/2015 |  | X
10. Administering the Community Service and Self-Sufficiency Requirement (CSSR) | 08/13/2015 |  | X
11. Project-Basing HUD-Veterans Affairs Supportive Housing (VASH) Vouchers | 06/12/2015 |  | X
12. Funding Availability for Tenant-Protection Vouchers for Certain At-Risk Households in Low-Vacancy Areas—Fiscal Year 2015 | 04/23/2015 |  | X
13. Expiration of Temporary Compliance Assistance for Public Housing and Housing Choice Voucher Programs—Temporary Compliance Assistance | 03/12/2015 |  | X
14. Implementation of the Federal Fiscal Year (FFY) 2015 Funding Provisions for the Housing Choice Voucher Program | 02/21/2015 |  | X
15. Extension: Administrative Guidance for Effective and Mandated Use of the Enterprise Income Verification (EIV) System | 01/09/2015 | X |
16. Public Housing Operating Subsidy Eligibility Calculations for Calendar Year 2015 | 08/19/2014 |  | X
17. Relocation Requirements under the Rental Assistance Demonstration (RAD) Program, Public Housing in the First Component | 07/14/2014 |  | X
18. Voluntary conversion assessment for public housing agencies (PHAs) with fewer than 250 public housing units | 06/18/2014 |  | X
19. Funding for Tenant-Protection Vouchers for Certain At-Risk Households in Low-Vacancy Areas—2014 Appropriations Act | 05/20/2014 |  | X
20. Changes to Flat Rent Requirements—2014 Appropriations Act | 05/19/2014 |  | X
21. Revision to PIH 2013-16—Public Housing Operating Subsidy Eligibility Calculations for Calendar Year 2014 | 06/25/2013 |  | X
22. Implementation of the Federal Fiscal Year 2014 Funding Provisions for the Housing Choice Voucher Program | 03/18/2014 |  |
23. Funding for Tenant-Protection Vouchers for Certain At-Risk Households in Low-Vacancy Areas—Revision | 02/04/2014 |  | X
24. Set-Aside Funding Availability for Project-Basing HUD-VASH Vouchers | 02/04/2014 |  | X
25. Extension: Public Housing and Housing Choice Voucher Programs—Temporary Compliance Assistance | 11/05/2013 | X |
26. Notice of Annual Factors for Determining Public Housing Agency Administrative Fees for the Section 8 Housing Choice Voucher and Moderate Rehabilitation Programs | 09/27/2013 |  | X
27. Revised Eligibility Requirements for Housing Choice Voucher (HCV) Contract Renewal Set-Aside Funding for Category 1, Shortfall Funds—Notice PIH 2013-12—Implementation of the Federal Fiscal Year 2013 Funding Provisions for the Housing Choice Voucher Program | 09/13/2013 |  | X
28. Extension: Administrative Guidance for Effective and Mandated Use of the Enterprise Income Verification (EIV) System | 08/30/2013 | X |
29. Public Housing Operating Subsidy Eligibility Calculations for Calendar Year 2014 | 06/25/2013 |  | X
30. Disaster Housing Assistance Program—Sandy (DHAP-Sandy) Operating Requirements | 06/10/2013 |  | X
31. Extension: Administrative Guidance for Effective and Mandated Use of the Enterprise Income Verification (EIV) System | 06/01/2013 | X |
32. Implementation of the Federal Fiscal Year 2013 Funding Provisions for the Housing Choice Voucher Program | 05/23/2013 |  | X
33. Funding for Tenant-Protection Vouchers for Certain At-Risk Households in Low-Vacancy Areas—Final Implementation | 04/12/2013 |  | X
34. Public Housing and Housing Choice Voucher Programs—Temporary Compliance Assistance • FAQ—3/1/2013 | 01/22/2013 |  | X
35. Section 184 Indian Housing Loan Guarantee Program's Maximum Loan Limits Effective January 1, 2013 | 01/09/2013 |  | X
36. Providing Interim Funding in Fiscal Year 2013 to Recipients of Indian Housing Block Grants | 12/12/2012 |  | X
37. Draft Notice Extending Use of Op Reserves for Cap Improvements | 10/25/2012 |  | X
38. Housing Choice Voucher Family Moves with Continued Assistance | 10/25/2012 | X |
39. Funding for Tenant-Protection Vouchers for Certain At-Risk Households in Low-Vacancy Areas—Request for Comments | 09/10/2012 | X |
40. Emergency Safety and Security Funding as it Relates to the Full-Year Continuing Appropriations Act, 2012 [Pub. L. 112-36] | 09/07/2012 |  | X
41. SUPPLEMENTAL NOTICE to PIH Notice 2012-16 Request for Applications under the Moving to Work Demonstration Program for Fiscal Year 2011 | 08/27/2012 |  | X
42. Federal Fiscal Year 2012 Funding Provisions for the Housing Choice Voucher Program—Award of Remaining Set-Aside Funds | 08/21/2012 |  | X
43. Public Housing Operating Subsidy Eligibility Calculations for Calendar Year 2013 | 06/22/2012 |  | X
44. Calendar Year 2012 $20 Million Set-Aside for Financial Hardship due to Public Housing Operating Subsidy Allocation Adjustment • Attachment A • Attachment B1 • Attachment B2 | 06/08/2012 |  | X
45. Extension: Administrative Guidance for Effective and Mandated Use of the Enterprise Income Verification (EIV) System | 06/01/2012 | X |
46. Non-Smoking Policies in Public Housing | 05/29/2012 |  | X
47. Revocation of Notice PIH 2012-19 (Implementation of Funding for Tenant-Protection Vouchers for Certain At-Risk Households in Low-Vacancy Areas) | 05/02/2012 |  | X
48. Implementation of Funding for Tenant-Protection Vouchers for Certain At-Risk Households in Low-Vacancy Areas | 03/16/2012 |  | X
49. Rental Assistance Demonstration—Partial Implementation and Request for Comments | 03/08/2012 |  | X
50. Request for Applications under the Moving to Work Demonstration Program for Fiscal Year 2011 | 02/27/2012 |  | X
51. Extension—Administering the Community Service and SelfSufficiency Requirement (CSSR) | 02/22/2012 |  | X
52. Indian Housing Plan/Annual Performance Report Form—Form HUD-52737 | 02/22/2012 |  | X
53. Implementation of the Federal Fiscal Year 2012 Funding Provisions for the Housing Choice Voucher Program | 02/08/2012 |  | X
54. Prohibition on Exceeding Statutory Limitation of the Number of Public Housing Units | 12/27/2011 |  | X
55. Extension of Notice 2010-49: Protecting Tenants at Foreclosure Act—Guidance on New Tenant Protections | 12/16/2011 |  | X
56. Implementation of New Cash Management Requirements for the Housing Choice Voucher Program | 12/09/2011 |  | X
57. Terminal Guidance on Disaster Housing Assistance Program—Ike (DHAP-Ike) and Extension Operating Requirements | 12/07/2011 |  | X
58. Extension of Cost-Test and Market Analyses Guidelines for the Voluntary Conversion of Public Housing Units Pursuant to 24 CFR part 972 | 11/02/2011 |  | X
59. Extension—Guidance on requirement for PHAs to record current Declaration of Trusts (DOTs) against all public housing property and guidance on adding and removing public housing units and other property from the Annual Contributions Contract (ACC) | 11/01/2011 |  | X
60. Instructions for Public Housing Agency on Fiscal Year End Changes | 10/06/2011 |  | X
61. Public Housing Operating Subsidy Calculations for Calendar Year 2012 • Attachment | 09/26/2011 |  | X
62. Guidance on the Project-Based Voucher Program | 09/20/2011 | X |
63. Project-Basing HUD-Veterans Affairs Supportive Housing Vouchers | 09/15/2011 | X |
64. Extension—Administrative Requirements for Investing Indian Housing Block Grant (IHBG) Funds | 07/21/2011 |  | X
65. Extension—Demonstration Program—Self-Determined Housing Activities for Tribal Governments | 07/21/2011 |  | X
66. Public Housing Development Cost Limits | 07/20/2011 |  | X
67. Extension: Information and Procedures for Implementation of Capital Funds Recovery Competition Grants | 07/13/2011 |  | X
68. Extension: Consolidated Guidance on Disaster Housing Assistance Program—Ike (DHAP-Ike) and Extension Operating Requirements | 06/30/2011 |  | X
69. Extension—Continuation of Disaster Voucher Program (DVP) Housing Assistance Payments | 06/28/2011 |  | X
70. Implementation of the Federal Fiscal Year 2011 Funding Provisions for the Housing Choice Voucher Program | 06/02/2011 |  | X
71. Extension—Establishing a Micro Purchase Process for Purchases Less Than $5,000 for Indian Housing Block Grant (IHBG) Recipients | 05/25/2011 |  | X
72. Extension: Administrative Guidance for Effective and Mandated Use of the Enterprise Income Verification (EIV) System | 05/30/2011 | X |
73. Asset-Repositioning Fee | 04/12/2011 | X |
74. Extension of Notice PIH 2010-08, Renewal of Project-Based Certificate Housing Assistance Payments Contracts | 03/31/2011 |  | X
75. Public Housing Operating Subsidy Calculations for Calendar Year 2011 | 03/18/2011 |  | X
76. Implementation of Statutory Change to the Native American Housing Assistance and Self-Determination Act of 1996 (NAHASDA) related to Income | 03/18/2011 |  | X
77. Guidelines for Undertaking Financing Unsecured by Public Housing Assets | 02/24/2011 |  | X
78. Reissuance of PIH Notice 2009-31—PIH Implementation Guidance for the Buy American Requirement of the American Recovery and Reinvestment Act of 2009 including Process for Applying Exceptions | 02/17/2011 |  | X
79. Extension—Administering the Community Service and Self Sufficiency Requirement (CSSR) | 02/11/2011 |  | X
80. Appeals under the Operating Fund Program for Calendar Year 2011 | 02/11/201 |  | X
81. Extension—Guidance for Obtaining HUD Consent for Takings of Public Housing Property by Eminent Domain | 01/28/2011 | X |
82. Native American Housing Assistance and Self-Determination Act (NAHASDA) Interim Funding for Tribes or Tribally Designated Housing Entities (TDHE) in Fiscal Year (FY) 2011 | 01/27/2011 |  | X
83. Amendment to PIH Notice 2010-40 on Set-Aside Funding Availability for Project-Basing HUD-Veterans Affairs Supportive Housing Vouchers | 01/27/2011 | X |
84. Reissuance of PIH Notice 2009-12—Information and Procedures for Processing American Recovery and Reinvestment Act Capital Fund Formula Grants | 01/21/2011 |  | X
85. Housing Choice Voucher Family Moves with Continued Assistance | 01/19/2011 | X |
86. Extension: Guidance—Verification of Social Security Numbers (SSNs), Social Security (SS) and Supplemental Security Income (SSI) Benefits | 01/12/2011 | X |
87. Over Subsidization in the Housing Choice Voucher Program | 01/01/2011 | X |
88. Protecting Tenants at Foreclosure Act—Guidance on New Tenant Protections | 12/28/2010 |  | X
89. Extension—Cost-Test and Market Analyses Guidelines for the Voluntary Conversion of Public Housing Units Pursuant to 24 CFR part 972 | 10/01/2010 |  | X
90. Financial Reporting Requirements for the Housing Choice Voucher Program Submitted through the Financial Assessment Subsystem for Public Housing and the Voucher Management System | 10/29/2010 | X |
91. Revision and Extension of Guidance on requirement for PHAs to record current Declaration of Trusts (DOTs) against all public housing property and guidance on adding and removing public housing units and other property from the Annual Contributions Contract (ACC) | 10/20/2010 |  | X
92. Continuation of Disaster Voucher Program (DVP) Housing Assistance Payments | 10/19/2010 |  | X
93. Certification of accuracy of data in the Inventory Management/Public Housing Information Center System used to calculate the Capital Fund formula allocation | 10/13/2010 |  | X
94. Using Energy Star to Promote Energy Efficiency in Public Housing | 10/12/2010 |  | X
95. Set-Aside Funding Availability for Project-Basing HUD Veterans Affairs Supportive Housing Vouchers | 09/28/2010 |  | X
96. Process for Public Housing Agency Voluntary Transfers of Housing Choice Vouchers, Project-Based Vouchers and Project-Based Certificates | 09/28/2010 |  | X
97. Operating Fund Program: Guidance on Demonstration of Successful Conversion to Asset Management to Discontinue the Reduction of Operating Subsidy, Year 5 Applications | 09/07/2010 |  | X
98. Extension—Recipient Inspection of Housing Units Assisted under the Native American Housing Assistance and Self Determination Act of 1996 (NAHASDA) and Those Assisted Under the United States Housing Act of 1937 | 08/31/2010 |  | X
99. Demonstration Program—Self-Determined Housing Activities for Tribal Governments | 08/17/2010 |  | X
100. Information and Procedures for Implementation of Capital Funds Recovery Competition Grants | 08/10/2010 |  | X
101. Reinstatement—PIH Notice 2009-6 (TDHEs)—Administrative Requirements for Investing Indian Housing Block Grant (IHBG) Funds | 08/06/2010 |  | X
102. Transactions between Public Housing Agencies and their Related Affiliates and Instrumentalities | 08/02/2010 |  | X
103. Request for Applications under the Moving to Work Demonstration Program • MTW Optional Eligibility Worksheet | 07/30/2010 | X |
104. Reinstatement of PIH Notice 2009-05, Accessibility Requirements for Native American Programs: Section 504 of the Rehabilitation Act of 1973; Americans with Disabilities Act of 1990; Architectural Barriers Act of 1968; and Fair Housing Amendments Act of 1988 | 08/27/2010 |  | X
105. Timely Reporting Requirements of the Family Report (form HUD-50058 and form HUD-50058 MTW) into the Public and Indian Housing Information Center | 08/07/2010 |  | X
106. Emergency Safety and Security Funding as it Relates to the Omnibus Appropriations Act, 2009 [Pub. L. 111-8] and the Consolidated Appropriations Act, 2010 [Pub. L. 111-117] | 06/28/2010 | X |
107. Project-Basing HUD-Veterans Affairs Supportive Housing Vouchers | 06/25/2010 | X |
108. Consolidated Guidance on Disaster Housing Assistance Program—Ike (DHAP-Ike) and Extension Operating Requirements | 06/17/2010 |  | X
109. Public Housing Development Cost Limits • TDC Housing Cap Limits for FY 2010 | 05/24/2010 |  | X
110. Revision to HUD Notice PIH 2009-51 PHA Determinations of Rent Reasonableness in the Housing Choice Voucher (HCV) Program—Comparable Unassisted Units in the Premises | 05/10/2010 |  | X
111. Extension-Establishing a Micro Purchase Process for Purchases Less Than $5,000 for Indian Housing Block Grant (IHBG) Recipients | 05/07/2010 |  | X
112. Voucher Management System Enhancements and Reporting Requirements | 05/06/2010 |  | X
113. HUD Funding for Non-Presidentially Declared Natural Disasters | 04/28/2010 |  | X
114. Requests for Exception Payment Standards for Persons with Disabilities as a Reasonable Accommodation | 04/13/2010 | X |
115. HQS Inspections for the Housing Choice Voucher Program and Guidance Related to Electrical Outlets | 03/31/2010 | X |
116. Renewal of Project-Based Certificate Housing Assistance Payments Contracts • Attachment | 03/26/2010 | X |
117. Reporting of Administrative Fee Reserves | 03/12/2010 | X |
118. Implementation of the Federal Fiscal Year 2010 Funding Provisions for the Housing Choice Voucher Program | 02/16/2010 |  | X
119. Extension—Guidance for Obtaining HUD Consent for Takings of Public Housing Property by Eminent Domain | 01/22/2010 | X |
120. Guidance—Verification of Social Security Numbers (SSNs), Social Security (SS) and Supplemental Security Income (SSI) Benefits | 01/20/2010 | X |
121. Appeals under the Operating Fund Program for Calendar Year 2010 | 01/20/2010 |  | X
122. Extension of the Disaster Voucher Program (DVP) | 01/05/2010 |  | X
123. Protecting Tenants at Foreclosure Act—Guidance on New Tenant Protections | 12/15/2009 | X |
124. PHA Determinations of Rent Reasonableness in the Housing Choice Voucher (HCV) Program—Comparable Unassisted Units in the Premises | 12/11/2009 | X |
125. Line of Credit Control System/Voice Response System (LOCCS/VRS) for the Indian Housing Block Grant Program | 12/02/2009 |  | X
126. Administering the Community Service and Self-Sufficiency Requirement (CSSR) | 11/25/2009 |  | X
127. Public Housing Operating Subsidy Calculations for Calendar Year 2010 | 11/19/2009 |  | X
128. Submission of Calendar Year 2009 Notices of Intent and Fungibility Plans by PHAs in Hurricane Katrina and Rita Disaster Areas Authorized To Combine Section 8(o) and 9(d)(e) Funding Under Section 901 of 2006 Emergency Supplemental Appropriations, as Extended by 2008 Emergency and Supplemental Appropriations | 11/06/2009 |  | X
129. Renewable energy and green construction practices in Public Housing | 10/16/2009 |  | X
130. Extension-Cost-Test and Market Analyses Guidelines for the Voluntary Conversion of Public Housing Units Pursuant to 24 CFR part 972 | 10/16/2009 | X |
131. Distribution of Fiscal Year (FY) 2009 Administrative Fee Funding for Housing Choice Voucher Family Self-Sufficiency (HCV/FSS) Program Coordinator Salaries | 09/29/2009 |  | X
132. Independent Auditor Report Submission for Public Housing Agencies | 09/22/2009 |  |
133. Treatment of Income for Participants of Public Housing and Section 8 programs that qualify for payment adjustments under the American Recovery and Reinvestment Act (ARRA) | 09/24/2009 |  | X
134. Capital Fund Program Awards for FY 2009 | 09/02/2009 |  | X
135. Operating Fund Program: Guidance on Demonstration of Successful Conversion To Asset Management to Discontinue the Reduction of Operating Subsidy, Year 4 Applications | 08/26/2009 |  | X
136. PIH Implementation Guidance for the Buy American Requirement of the American Recovery and Reinvestment Act of 2009 including Process for Applying Exceptions | 08/21/2009 |  | X
137. Extension—Recipient Inspection of Housing Units Assisted Under the Native American Housing Assistance and Self Determination Act of 1996 (NAHASDA) and Those Assisted Under the United States Housing Act of 1937 | 08/19/2009 |  | X
138. Request for Applications Under the Moving To Work Demonstration Program | 08/19/2009 |  | X
139. Guidance on requirement for PHAs to record current Declaration of Trusts (DOTs) against all public housing property and guidance on adding and removing public housing units and other property from the Annual Contributions Contract (ACC) | 08/14/2009 | X |
140. Implementation of the Federal Fiscal Year 2009 Funding Provisions for the Housing Choice Voucher Program—Award of Remaining Set-Aside Funds | 08/04/2009 |  | X
141. Transactions between Public Housing Agencies and their Related Affiliates and Instrumentalities | 07/23/2009 |  | X
142. Over Subsidization in the Housing Choice Voucher Program | 07/21/2009 | X |
143. Non-Smoking Policies in Public Housing | 07/17/2009 |  | X
144. Establishing a Micro Purchase Process for Purchases Less than $5,000 for Indian Housing Block Grant (IHBG) Recipients | 05/18/2009 |  | X
145. Implementation of the Federal Fiscal Year 2009 Funding Provisions for the Housing Choice Voucher Program | 05/06/2009 |  | X
146. Information and Procedures for Processing American Recovery and Reinvestment Act Capital Fund Formula Grants | 03/18/2009 |  | X
147. Project-Basing HUD-Veterans Affairs Supportive Housing Vouchers | 03/16/2009 |  | X
148. Appeals under the Operating Fund Program for Calendar Year 2009 | 03/05/2009 |  | X
149. Using ENERGY STAR to Promote Energy Efficiency in Public Housing | 03/05/2009 |  | X
150. Extension of the Disaster Voucher Program (DVP) | 02/24/2009 |  | X
151. Administrative Requirements for Investing Indian Housing Block Grant (IHBG) Funds | 03/05/2009 |  | X
152. Extension—PIH Notice 2008-6 (TDHEs)—Accessibility Requirements for Native American Programs: Section 504 of the Rehabilitation Act of 1973; Americans with Disabilities Act of 1990; Architectural Barriers Act of 1968; and Fair Housing Amendments Act of 1988 | 01/26/2009 |  | X
153. Limiting Housing to Indian Families or Tribal Members When Using Indian Housing Block Grant (IHBG) funds | 01/26/2009 |  | X
154. Operating Fund Program: Calculation of Transition Funding Amounts for Calendar Year 2009 | 01/16/2009 |  | X
155. Public Housing Development Cost Limits—(.pdf) (.doc) | 12/22/2008 |  | X
156. Certification of accuracy of data in the Inventory Management/Public Housing Information Center System used to calculate the Capital Fund formula allocation | 12/10/2008 |  | X
157. Disaster Housing Assistance Program-Ike (DHAP-Ike) Case Management Guidelines | 12/10/2008 |  | X
158. Line of Credit Control System/Voice Response System (LOCCS/VRS) for the Indian Housing Block Grant Program • Extension Notice | 12/24/2008 |  | X
159. Public Housing Agency (PHA) Five-Year and Annual Plan Process for all PHAs | 11/13/2008 |  | X
160. Income exclusion of kinship care payments when foster children are placed with relatives | 11/04/2008 |  | X
161. Processing Changes for Voucher Management System (VMS) Data—Housing Choice Voucher Program | 11/03/2008 |  | X
162. Disaster Housing Assistance Program—Ike (DHAP-Ike) Operating Requirements | 10/14/2008 |  | X
163. Reporting Requirements for the HUD-Veterans Affairs Supportive Housing Program | 10/14/2008 |  | X
164. Extension of the Disaster Voucher Program (DVP) | 10/01/2008 |  | X
165. Public Housing Operating Subsidy Calculations for Calendar Year (CY) 2009 | 08/13/2008 |  | X
166. Operating Fund Program: Guidance on Demonstration of Successful Conversion To Asset Management To Discontinue the Reduction of Operating Subsidy, Year 3 Applications | 07/17/2008 |  | X
167. Income exclusion of Kinship Guardian Assistant Payments (Kin-GAP) and other guardianship care payments | 07/14/2008 |  | X
168. Extension of the Disaster Voucher Program (DVP) | 07/08/2008 |  | X
169. Extension—Guidance on Integrated Pest Management | 05/26/2008 |  |
170. Exclusion of tax rebates from the Internal Revenue Service (IRS) under the Economic Stimulus Act of 2008 | 05/16/2008 |  | X
171. Guidance on Energy Performance Contracts, including those with terms up to 20 years | 04/25/2008 |  | X
172. Disaster Housing Assistance Program (DHAP) Revisions to the Operating Requirements and Processing Guidance for Phase 3 Families; Suspension of the Incremental Rent Transition Requirement for Phase 2 and Phase 3 Families; Supplemental Guidance on Pre-Transition and Case Management Fees and Use of Disaster Information System (DIS) Information To Determine Family Unit Size Under the PHA Subsidy Standards | 04/16/2008 |  | X
173. Over Subsidization in the Housing Choice Voucher Program | 04/16/2008 | X |
174. Extension—Process for Public Housing Agency Voluntary Transfers of Housing Choice Vouchers, Project-Based Vouchers and Project-Based Certificates | 03/30/2008 | X |
175. Implementation of Federal Fiscal Year 2008 Funding Provisions for the Housing Choice Voucher Program | 03/25/2008 |  | X
176. Renewal of Project-Based Certificate Housing Assistance Payments Contracts • Attachment. | 03/20/2008 |  | X
177. Requests for Exception Payment Standards for Persons With Disabilities as a Reasonable Accommodation | 03/18/2008 | X |
178. Reporting Requirements and Sanctions Policy Under the Public Housing Program for the Family Report (Form HUD-50058) to the Office of Public and Indian Housing (PIH) Information Center (PIC) | 02/15/2008 |  | X
179. Financial Reporting Requirements for the Housing Choice Voucher Program Submitted through the Financial Assessment Subsystem for Public Housing and the Voucher Management System | 01/30/2008 |  | X
180. Limiting Housing to Indian Families or Tribal Members When Using Indian Housing Block Grant (IHBG) funds | 01/30/2008 |  | X
181. Reinstatement—PIH Notice 2006-38—Accessibility Requirements for Native American Programs: Section 504 of the Rehabilitation Act of 1973; Americans with Disabilities Act of 1990; Architectural Barriers Act of 1968; and Fair Housing Amendments Act of 1988 | 01/24/2008 |  | X
182. Native American Housing Assistance and Self-Determination Act (NAHASDA) Interim Funding for Tribes or Tribally Designated Housing Entities (TDHE) in Fiscal Year (FY) 2008 | 01/23/2008 |  | X
183. Allocation of Funds Remaining Under the Fiscal Year (FY) 2007 $100 Million Set-Aside and Availability of Special Fees for Public Housing Agencies (PHAs) Needing Additional Funds in the Operation of the Housing Choice Voucher (HCV) Program | 01/22/2008 |  | X
184. Guidance for Obtaining HUD Consent for Takings of Public Housing Property by Eminent Domain | 01/16/2008 | X |
185. Disaster Housing Assistance Program (DHAP) Case Management Guidelines | 01/04/2008 |  | X

Appendix B—Public and Indian Housing—Other Guidance
Name of document | Date | Remove | Arch.
1. Phase IIa and IIb Protocol | 04/12/2017 | X
2. FSS Training Announcement | 01/2017 |  | X
3. EDSC Guidance | 02/05/2016 | X
4. October thru Dec Obligation Letters | 10/05/2015 |  | X
5. Explanation of Final Obligations | 09/24/2015 |  | X
6. Explanation of September Obligations | 09/01/2015 |  | X
7. CY 2015 Interim Eligibility as of 8/18/15 | 08/18/2015 |  | X
8. Final Eligibility Report as of 08/18/15 | 08/18/2015 |  | X
9. CY 2015 PHA HUD-52723 & 52722 Technical Notes | 07/15/2015 |  | X
10. Explanation of July & August Obligations | 06/30/2015 |  | X
11. Explanation of May & June Obligations | 04/29/2015 |  | X
12. CY 2015 PHA HUD-52723 & 52722 Technical Notes | 04/05/2015 |  | X
13. CY 2015 PHA HUD-52723 Excel Tools Version 2.08 | 04/05/2015 |  | X
14. CY 2015 PHA HUD-52722 Excel Tools Version 2.08 | 04/05/2015 |  | X
15. Explanation of April Obligations | 03/24/2015 |  | X
16. CY 2015 PHA HUD-52722 Excel Tools Version 2.07 | 03/21/2015 |  | X
17. CY 2015 Pre-populated Unit Months: Last of Month | 03/05/2015 |  | X
18. CY 2015 PHA HUD-52722 Excel Tools Version 2.06 | 03/02/2015 |  | X
19. CY 2015 Pre-populated Unit Months: First of Month | 03/01/2015 |  | X
20. Explanation of March Obligations | 02/27/2015 |  | X
21. CY 2015 PHA HUD-52723 Excel Tools Version 2.05 | 02/15/2015 |  | X
22. CY 2015 PHA HUD-52722 Excel Tool Version 2.04 | 02/11/2015 |  | X
23. CY 2015 PHA HUD-52722 Excel Tool Version 2.04 | 02/11/2015 |  | X
24. CY 2015 PHA HUD-52723 Excel Tools Version 2.04 | 02/11/2015 |  | X
25. CY 2015 PHA HUD-52723 Excel Tools Version 2.03 | 02/08/2015 |  | X
26. CY 2015 Inventory Validation Workbook | 02/05/2015 |  | X
27. CY 2015 Operating Subsidy Project Inventory | 02/05/2015 |  | X
28. CY 2015 PHA HUD-52723 Excel Tool Version 2.01 | 02/05/2015 |  | X
29. CY 2015 PHA HUD-52723 Excel Tools Version 2.02 | 02/05/2015 |  | X
30. Appeals for Changing Market Conditions | 02/05/2015 |  | X
31. CY 2015 Formula Income Methodology | 02/05/2015 |  | X
32. Asset Management Fees for PHAs with One Project | 02/05/2015 |  | X
33. Guidance to Assist PHAs in Completing SF-424 | 02/05/2015 |  | X
34. Guidance for New Projects | 02/05/2015 |  | X
35. EPCs: Processing COCC Adjustments for an Existing Energy Performance Contract | 02/05/2015 |  | X
36. EPCs: Capturing the resident-paid utilities incentive on Forms HUD-52723 (Example) | 02/05/2015 |  | X
37. EDSC Guidance | 02/05/2015 | X |
38. Explanation of February Obligations | 01/29/2015 |  | X
39. CY 2015 PHA HUD-52723 Excel Tool User Guide | 01/14/2015 |  | X
40. CY 2015 PHA HUD-52722 Excel Tool User Guide | 01/14/2015 |  | X
41. Explanation of January Obligations | 12/24/2014 |  | X
42. 2015 Operating Fund Submission Schedule v1.4 | 11/03/2014 |  | X
43. Explanation of Final Obligations and Proration (October through December) for CY 2014 | 09/29/2014 |  | X
44. CY 2015 UEL Inflation Factor Calculation | 09/12/2014 |  | X
45. CY 2014 PHA HUD-52722 Excel Tools Version 1.13.1 (New Projects 5) | 08/13/2014 |  | X
46. CY 2014 PHA HUD-52723 Excel Tools Version 1.6.1 (New Projects 5) | 08/11/2014 |  | X
47. CY 2014 PHA HUD-52723 Technical Notes | 08/11/2014 |  | X
48. CY 2014 PHA HUD-52722 Technical Notes | 08/11/2014 |  | X
49. Explanation of August and September Obligations | 07/29/2014 |  | X
50. CY 2014 PHA HUD-52723 Excel Tools Version 1.6 (New Projects 4). | 07/24/2014 |  | X
51. CY 2014 PHA HUD-52722 Excel Tools Version 1.13 (New Projects 4) | 07/23/2014 |  | X
52. Explanation of June and July Obligations | 05/29/2014 |  | X
53. CY 2014 PHA HUD-52723 Excel Tools Version 1.5 (New Projects 3) | 04/29/2014 |  | X
54. CY 2014 PHA HUD-52722 Excel Tools Version 1.12 (New Projects 3) | 04/29/2014 |  | X
55. CY 2014 PHA HUD-52722 Excel Tools Version 1.11.1 (New Projects 2) | 04/03/2014 |  | X
56. Explanation of April and May Obligations | 03/28/2014 |  | X
57. CY 2014 PHA HUD-52723 Excel Tools Version 1.4 (New Projects 2) | 03/19/2014 |  | X
58. Explanation of October thru December Final Obligations | 03/11/14 |  | X
59. CY 2014 Final Eligibility Report considering Flat Rents | 03/10/2014 |  | X
60. CY 2014 PHA HUD-52723 Excel Tools Version 1.3.1 (New and Revised PELs) | 03/04/2014 |  | X
61. Explanation of March Obligations | 02/27/2014 |  | X
62. CY 2014 PHA HUD-52722 Excel Tools Version 1.10 (New and Revised PELs) | 02/20/2014 |  | X
63. CY14 Project Inventory | 02/05/2014 |  | X
64. Asset Repositioning Fee (ARF)—PHA Guidance | 02/05/2014 |  | X
65. CY 2014 Formula Income Methodology | 02/05/2014 |  | X
66. Appeals for Changing Market Conditions | 02/05/2014 |  | X
67. Asset Management Fees for PHAs with One Project | 02/05/2014 |  | X
68. Guidance to Assist PHAs in Completing SF-424 | 02/05/2014 |  | X
69. CY 2014 EDSC Program | 02/05/2014 | X |
70. EPCs: Processing COCC Adjustments for an Existing Energy Performance Contract | 02/05/2014 |  | X
71. EPCs: Capturing the resident-paid utilities incentive on Forms HUD-52723 (Example) | 02/05/2014 |  | X
72. FAQs related to Subsidy Processing | 02/05/2014 |  | X
73. Explanation of January and February Obligations | 12/31/2013 |  | X
74. CY 2014 PHA HUD-52722 Excel Tools Version 1.9 (New Projects 1) | 12/19/2013 |  | X
75. CY 2014 PHA HUD-52722 Excel Tools Version 1.8 | 12/18/2013 |  | X
76. CY 2014 PHA HUD-52723 Excel Tools Version 1.2 (New Projects 1) | 12/17/2013 |  | X
77. New Projects/Units | 12/13/2013 |  | X
78. CY 2013 Formula Income Methodology | 12/05/2013 |  | X
79. CY 2014 PHA HUD-52723 Excel Tool User Guide | 12/03/2013 |  | X
80. Operating Subsidy Forms Submission Schedule for CY2014 | 11/14/2013 |  | X
81. CY 2014 PHA HUD-52723 Excel Tools Version 1.1 | 11/14/2013 |  | X
82. CY 2014 PHA HUD-52722 Excel Tools Version 1.7 | 11/08/2013 |  | X
83. CY 2014 PHA HUD-52722 Excel Tool User Guide | 11/08/2013 |  | X
84. CY 2014 UEL Inflation Factor | 11/05/2013 |  | X
85. Technical Notes for HUD-52722 and 52723 (082213) (New Projects 5) | 09/05/2013 |  | X
86. Explanation of September Obligations | 08/27/2013 |  | X
87. Final Operating Fund PIC Unit Status Report for CY 2014 (July 2012 to June 2013) | 06/30/2013 |  | X
88. New Project/Units Guidance | 06/06/2013 |  | X
89. Explanation of June thru Aug Obligations | 05/28/2013 |  | X
90. Explanation of May Obligations | 04/27/2013 |  | X
91. Explanation of April Obligations | 04/01/2013 |  | X
92. Explanation of March Obligations | 02/27/2013 |  | X
93. CY 2013 EDSC Program | 02/06/2013 | X |
94. Appeals for Changing Market Conditions | 02/05/2013 |  | X
95. Asset Management Fees for PHAs with One Project | 02/05/2013 |  | X
96. Guidance to Assist PHAs in Completing SF-424 | 02/05/2013 |  | X
97. EPCs: Processing COCC Adjustments for an Existing Energy Performance Contract | 02/05/2013 |  | X
98. CY 2013 PHA HUD-52723 Excel Tools (Version 2.6) (New Projects 5) | 01/05/2013 |  | X
99. Explanation of Initial Calendar Year (Jan. and Feb.) (CY) 2013 Obligations | 12/20/2012 |  | X
100. Technical Notes for HUD-52722 and 52723 | 12/20/2012 |  | X
101. CY 2013 PHA HUD-52723 Excel Tools (Version 2.5) (New Projects 4) | 12/20/2012 |  | X
102. CY 2013 PHA HUD-52722 Excel Tools (Version 1.6) (New Projects 4) | 12/20/2012 |  | X
103. CY 2013 PHA HUD-52722 Excel Tools (Version 1.7) (New Projects 5) | 12/20/2012 |  | X
104. CY 2013 Interim Eligibility Notes and Report | 12/10/2012 |  | X
105. CY 2013 UEL Inflation Factor | 12/05/2012 |  | X
106. Technical Notes for HUD-52722 and 52723 | 11/29/2012 |  | X
107. CY 2013 PHA HUD-52723 Excel Tools (Version 2.4) (New Projects 4) | 11/29/2012 |  | X
108. CY 2013 PHA HUD-52722 Excel Tools (Version 1.5) (New Projects 4) | 11/29/2012 |  | X
109. Technical Notes for HUD-52722 and 52723 | 10/18/2012 |  | X
110. CY 2013 PHA HUD-52723 Excel Tools (Version 2.3) | 10/18/2012 |  | X
111. CY 2013 PHA HUD-52722 Excel Tools (Version 1.4) | 10/18/2012 |  | X
112. Operating Subsidy Forms Submission Schedule for CY2012 | 10/03/2012 |  | X
113. CY 2012 PHA HUD-52723 Excel Tool Version 1.2 | 10/03/2012 |  | X
114. Carryover Funding 2012/2013 Obligations Explanation | 09/30/2012 |  | X
115. Explanation of October through December Final Obligations | 09/25/2012 |  | X
116. CY 2013 PHA HUD-52722 Excel Tool User Guide | 09/20/2012 |  | X
117. Technical Notes for HUD-52722 and 52723 | 09/20/2012 |  | X
118. CY 2013 PHA HUD-52723 Excel Tools (Version 2.2) | 09/20/2012 |  | X
119. CY 2013 PHA HUD-52722 Excel Tools (Version 1.3) | 09/20/2012 |  | X
120. Data to be used for completing CY 2013 operating subsidy submissions | 09/11/2012 |  | X
121. CY 2013 PHA HUD-52723 Excel Tool User Guide | 08/27/2012 |  | X
122. Technical Notes HUD-52723 ver. 082212—New Projects | 08/22/2012 |  | X
123. EPCs: Processing COCC Adjustments for an Existing Energy Performance Contract | 07/21/2012 |  | X
124. EPCs: Capturing the resident-paid utilities incentive on Forms HUD-52723 (Example) | 07/21/2012 |  | X
125. Technical Notes HUD-52723 ver. 062712—New Projects-Version 1.9 | 07/20/2012 |  | X
126. Explanation of July through September Obligations | 06/27/2012 |  | X
127. Technical Notes HUD-51723 ver. 062712—New Projects | 06/27/2012 |  | X
128. Operating Subsidy Forms Submission Schedule for CY2013 | 06/10/2012 |  | X
129. CY 2013 PHA HUD-52722 Excel Tools (Version 1.1) | 06/06/2012 |  | X
130. CY 2012 PHA HUD-52722 UEL Excel Tools Version 1.8—for New Projects | 06/06/2012 |  | X
131. Technical Notes HUD-52723—New Projects | 05/09/2012 |  | X
132. CY 2012 PHA HUD-52722 UEL Excel Tools Version 1.7 | 05/06/2012 |  | X
133. CY 2012 PHA HUD-52723 Excel Tools Version 1.10—for New Projects | 05/06/2012 |  | X
134. Explanation of April through June Obligations | 03/26/2012 |  | X
135. CY 2012 PHA HUD-52723 Excel Tools Version 1.8—for New Projects and Regrouped Projects | 03/09/2012 |  | X
136. Technical Notes HUD-52723—New Projects | 03/09/2012 |  | X
137. CY 2012 PHA HUD-52722 UEL Excel Tools Version 1 | 03/09/2012 |  | X
138. CY 2012 PHA HUD-52722 Excel Tools Version 1.2 New Projects and Existing Projects | 03/09/2012 |  | X
139. CY 2012 PHA HUD-52723 Excel Tools Version 1.11 | 03/05/2012 |  | X
140. Implementation of the Public Housing Assessment System (PHAS) Interim Rule | 02/22/2012 |  | X
141. Allocation Adjustment and Hardship Set-Aside Funding | 02/05/2012 |  | X
142. CY 2012 PHA HUD-52722 UEL Excel Tools | 02/05/2012 |  | X
143. CY 2012 PHA HUD-52723 Excel Tools Version 1.12—for New Projects | 02/05/2012 |  | X
144. Guidance: CY 2012 Formula Income Methodology and Guidance | 02/05/2012 |  | X
145. Guidance to Assist PHAs in Completing SF-424 | 02/05/2012 |  | X
146. Guidance: CY 2012 EDSC Program | 02/05/2012 | X |
147. Explanation of February and March Obligations | 01/31/2012 |  | X
148. Technical Notes HUD-52723—New Projects | 01/12/2012 |  | X
149. CY 2012 PHA HUD-52722 UEL Excel Tools Version 1.5 | 01/12/2012 |  | X
150. Explanation of Initial Calendar Year (CY) 2012 Obligations | 12/29/2011 |  | X
151. Technical Notes HUD-52723—New Projects | 12/01/2011 |  | X
152. CY 2012 PHA HUD-52723 Excel Tools Version 1.7—for New Projects and Regrouped Projects | 12/01/2011 |  | X
153. CY 2012 PHA HUD-52722 UEL Excel Tools Version 1.3 Existing Projects, New Projects and Regrouped Projects | 12/01/2011 |  | X
154. CY 2012 PHA HUD-52722 UEL Excel Tools Version 1. Existing Projects, New Projects and Regrouped Projects | 12/01/2011 |  | X
155. CY 2012 PHA HUD-52723 Excel Tools Version 1.9—for New Projects | 12/01/2011 |  | X
156. CY 2012 PHA HUD-52723 Excel Tools Version 1.3—for New Projects | 11/18/2011 |  | X
157. CY 2012 PHA HUD-52723 Excel Tools Version 1.4—for New Projects and Regrouped Projects | 11/18/2011 |  | X
158. Technical Notes HUD-52723—New Projects | 11/18/2011 |  | X
159. CY 2012 PHA HUD-52723 Excel Tools Version 1.5—for New Projects and Regrouped Projects | 11/18/2011 |  | X
160. CY 2012 PHA HUD-52723 Excel Tools Version 1.6—for New Projects and Regrouped Projects | 11/18/2011 |  | X
161. Forms 52723 & 52722 submission schedule | 11/10/2011 |  | X
162. CY 2012 PHA HUD-52723 Excel Tool User Guide | 10/06/2011 |  | X
163. CY 2012 PHA HUD-52722 UEL Excel Tools Version 1.10 | 10/06/2011 |  | X
164. Data to be used for completing CY 2012 operating subsidy submissions | 10/05/2011 |  | X
165. CY 2012 PHA HUD-52722 Excel Tool User Guide | 10/04/2011 |  | X
166. Explanation of October through December Final CY 2011 Obligations | 09/21/2011 |  | X
167. CY 2011 PHA HUD-52722 Excel Tools | 08/02/2011 |  | X
168. CY 2011 Technical Notes on HUD-52722 and 52723 | 08/02/2011 |  | X
169. REAC Inspection Checklist Version 1 (not available on HUD's website) | 08/2011 |  | X
170. Data to be used for completing CY 2011 operating subsidy submissions Part 2 | 07/28/2011 |  | X
171. UEL Inflation Factor | 07/22/2011 |  | X
172. CY 2011 PHA HUD-52722 Excel Tool User Guide | 07/21/2011 |  | X
173. Data to be used for completing CY 2011 operating subsidy submissions | 07/21/2011 |  | X
174. Methodology for determining CY 2011 Formula income | 07/01/2011 |  | X
175. Explanation of July through Sep. 2011 Obligations | 06/29/2011 |  | X
176. CY 2011 PHA HUD-52723 Excel Tools | 06/10/2011 |  | X
177. CY 2011 PHA HUD-52723 Excel Tool User Guide | 06/10/2011 |  | X
178. EPCs: Capturing the resident-paid utilities incentive on Forms HUD-52723 (Example) | 06/09/2011 |  | X
179. Operating Subsidy Forms Submission Schedule for CY2011 | 06/06/2011 |  | X
180. UEL Inflation Factor | 06/06/2011 |  | X
181. CY 2011 Guidance: Asset Management Fees for PHAs with One Project | 05/09/2011 |  | X
182. Explanation of May and June 2011 Obligations | 04/29/2011 |  | X
183. Explanation of April Calendar Year (CY) 2011 Obligations | 03/17/2011 |  | X
184. Operating Subsidy Calculation for Mixed Finance Projects Briefing | 02/11/2011 |  | X
185. Explanation of February and March Calendar Year (CY) 2011 Obligations | 02/07/2011 |  | X
186. Guidance to Assist PHAs in Completing SF-424 | 02/07/2011 |  | X
187. CY 2011 PHA Guidance for Appeals for Changing Market Conditions | 02/05/2011 |  | X
188. CY 2011 EDSC Program | 02/05/2011 | X |
189. Explanation of Initial Calendar Year (CY) 2011 Obligation | 12/22/2010 |  | X
190. Final CY 2010 Explanation of Obligations and Proration | 11/01/2010 |  | X
191. Final 2010 Funding Reconciliation Methodology | 09/20/2010 |  | X
192. Explanation of June 2010 Obligation | 05/25/2010 |  | X
193. Audit and PILOT data | 04/27/2010 |  | X
194. Data to be used for completing CY 2010 operating subsidy submissions | 04/23/2010 |  | X
195. FAQs related to CY 2010 Subsidy Processing | 04/21/2010 |  | X
196. Guidance: Asset Management Fees for PHAs with One Project | 04/15/2010 |  | X
197. SAGIS and Operating Fund Deadline Extension | 03/22/2010 |  | X
198. SAGIS Implementation for CY 2010 and important related information | 03/22/2010 |  | X
199. Rental Income Inflation Factor | 02/23/2010 |  | X
200. Elderly/Disabled Service Coordinator Program (Forms HUD-52723, Section 3, Line 07, CY 2010) | 02/05/2010 | X |
201. Additional Guidance: Asset Management Election and Asset Management Fee Add-on for CY 2010 | 01/11/2010 |  | X
202. Guidance to Assist PHAs in Completing SF-424 | 01/05/2010 |  | X
203. EPCs: Capturing the resident-paid utilities incentive on Forms HUD-52723—CY 2010 | 01/05/2010 |  | X
204. Explanation of Initial CY 2010 Obligation | 12/28/2009 |  | X
205. 2009-11: Annual Reporting Under the American Recovery and Reinvestment Act | 12/02/2009 |  | X
206. CY 2009 Submission Schedule and Supplemental Information | 10/31/2009 |  | X
207. UEL Inflation Factor | 10/23/2009 |  | X
208. 2009-9: Reporting Requirements under the American Recovery and Reinvestment Act | 09/30/2009 |  | X
209. Final CY 2009 Proration Explanation | 09/28/2009 |  | X
210. Final 2009 Funding Reconciliation Methodology | 09/28/2009 |  | X
211. 2009-8: Posting Signs and Recovery Act Project Sites | 09/09/2009 |  | X
212. 2009-7: Applicability of Buy American and Davis-Bacon Requirements to Recovery Act Programs | 07/07/2009 |  | X
213. Updated CY 2009 Proration | 06/08/2009 |  | X
214. Explanation of Second CY 2009 Obligation | 04/30/2009 |  | X
215. CY 2009 PHA HUD-52723 Excel Tools | 02/05/2009 |  | X
216. Elderly/Disabled Service Coordinator Program (Forms HUD-52723, Section 3, Line 07, CY 2009) | 02/05/2009 | X |
217. CY 2009 PHA HUD-52723 Excel Tool User Guide | 01/29/2009 |  | X
218. Explanation of Initial CY 2009 Obligation | 12/23/2008 |  | X
219. UEL Inflation Factor | 10/30/2008 |  | X
220. Further Information on CY 2008 3rd Quarter Obligation | 09/27/2008 |  | X
221. Final Calendar Year CY 2008 Operating Subsidy Obligation: Reconciliation Methodology | 09/25/2008 |  | X
222. Explanation of Fourth and Final Funding Cycle CY 2008 Obligation | 09/10/2008 |  | X
223. 2008 Operating Subsidy Preliminary Eligibility | 08/25/2008 |  | X
224. Supplemental Information on CY 2008 3rd Quarter Obligation | 06/06/2008 |  | X
225. Excel Tool SAGIS Data Validation PHA User Guidance | 05/01/2008 |  | X
226. Explanation of Third Funding Cycle CY 2008 Obligation for July through September | 04/05/2008 |  | X
227. Explanation of Second Funding Cycle CY 2008 Obligation for March through June | 02/05/2008 |  | X
228. Elderly/Disabled Service Coordinator Program (Forms HUD-52723, Section 3, Line 07) | 02/05/2008 |  | X
229. PHA-wide Calculated PILOT and Audit Cost for 2008 based on FDS | 02/05/2008 |  | X
230. 2008 Interim Funding FAQs | 02/04/2008 |  | X
231. Initial Funding for Fiscal Year 2008 and Timing of SAGIS Funding Data Submissions | 01/05/2008 |  | X
232. Project Level Frozen Formula Income Worksheet | 01/05/2008 |  | X
233. Utility Expense Level Calculator (“UEL Calculator”) | 10/05/07 |  | X
234. MTW Expansion FAQs | 2016-2017 |  | X
235. UPCS-V Presentations | 2016-2017 |  | X
236. UPCS-V Quarterly Conference Calls (archived) | 2016-2017 |  | X
237. UPCS-V Protocol v.1.5 | 2016 |  | X
238. UPCS-V Protocol v. 1.0 | 2016 |  | X
239. Changes to Inspection Protocol (v. 1.5 to 2.0) | 2016 |  | X
240. UPCS-V Draft Decision Trees | 2016 |  | X
241. Rejected financial and management operations submissions | 2014 |  | X
242. Public Housing SAC Training Materials | 2013 |  | X
243. Rejected Financial and Management Operations Submissions | 2013 |  | X
244. Rejected Financial and Management Operations Submissions | 2013 |  | X
245. PHA Occupancy Percentage Calculations | 2012 |  | X
246. PHAS Interim Training Guide | 2011 | X |
247. Conversion Guide | 2008 |  | X
248. Conversion Training | 2008 |  | X
249. Conversion FAQs | 2008 |  | X

Appendix C—Community Planning and Development
Title | Date | Remove | Arch.
1. HUD Equipment Certification Form: Hurricane Katrina Purchased Equipment: Long-Term Loan Program Form | 10/14/2008 | X
2. HUD Equipment Transfer Form: Hurricane Katrina Purchased Equipment: Long-Term Loan Program | 10/14/2008 | X |
3. The Economic Impact of the American Recovery and Reinvestment Act Five Years Later Final Report to Congress | 02/18/2014 |  | X
4. Guidance on Submitting Consolidated Plans and Annual Action Plans for Fiscal Year (FY) 2016 | 01/28/2016 |  | X
5. Timely Distribution of State CDBG Funds | 06/22/2015 |  | X
6. Instructions for Urban County Qualification for Participation in the Community Development Block Grant (CDBG) Program for Fiscal Years (FYs) 2016-2018 | 04/17/2015 |  | X
7. Guidance on Submitting Consolidated Plans and Annual Action Plans for Fiscal Year (FY) 2015 | 10/21/2014 |  | X
8. Instructions for Urban County Qualification for Participation in the Community Development Block Grant (CDBG) Program for Fiscal Years (FYs) 2015-2017 | 04/01/2014 |  | X
9. Timely Distribution of State CDBG Funds | 06/10/2015 |  | X
10. Guidance on submitting Consolidated Plans and Annual Action Plans for Fiscal Year (FY) 2014 | 12/13/2013 |  | X
11. Implementing Risk Analyses for Monitoring Community Planning and Development Grant Programs in FY 2014 | 10/25/2013 |  | X
12. Instructions for Urban County Qualification for Participation in the CDBG Program for FYs 2014-2016 | 5/15/2014 |  | X
13. Timely Distribution of State CDBG Funds | 4/29/2013 |  | X
14. Timely Distribution of State CDBG Funds | 05/08/2012 |  | X
15. Instructions for Urban County Qualification for Participation in the CDBG Program for FYs 2013-15 | 03/15/2013 |  | X
16. Closeout Instructions for Community Development Block Grant (CDBG) Programs Grants | 02/13/2013 |  | X
17. Implementing Risk Analyses for Monitoring Community Planning and Development Grant Programs in FY 2012 and 2013 | 01/2012 |  | X
18. Timely Distribution of State CDBG Funds | 7/28/2011 |  | X
19. Reporting Requirements for the State Performance and Evaluation Report (PER) | 6/1/2011 |  | X
20. Instructions for Urban County Qualification for Participation in the Community Development Block Grant (CDBG) Program for FYs 2012-2014 | 3/25/1999 |  | X
21. Guidelines for Administering the State Community Development Block Grant (CDBG) Colonias Set-Aside | 02/08/2011 |  | X
22. Timely Distribution of State CDBG Funds | 09/24/2010 |  | X
23. Instructions for Urban County Qualification for Participation in the (CDBG) Program for FYs 2011-2013 | 04/16/2010 |  | X
24. Timely Distribution of State CDBG Funds | 04/15/2010 |  | X
25. CPD Guidance for Buy American Requirement of the American Recovery and Reinvestment Act of 2009 | 10/07/2010 |  | X
26. Implementing Risk Analyses for Monitoring CPD Grant Programs in FY 2010 and 2011 | 8/24/2009 |  | X
27. Instructions for Urban County Qualification for Participation in CDBG for FYs 2010-2012 | 04/24/2009 |  | X
28. Implementing Risk Analyses for Monitoring Community Planning and Development Grant Programs in FY 2009 | 10/20/2008 | X |
29. Instructions for Urban County Qualification for Participation in CDBG for FYs 2009-2011 | 5/2/2008 |  | X
30. Guidance for HTF Grantees on Fiscal Year 2017 Housing Trust Fund (HTF) Allocation Plans | 5/31/2017 |  | X
31. Guidance for HTF Grantees on Fiscal Year 2016 Housing Trust Fund (HTF)Allocation Plans | 4/26/2016 |  | X
32. Closeout Instructions for Tax Credit Assistance Program (TCAP) Grants | 10/16/2015 |  | X
33. Operating Guidance for Implementing FY 2012 and FY 2013 HOME Appropriations Requirements | 4/18/2014 |  | X
34. Summary of Significant Changes Contained in HUD Notice CPD 13-002: Procedures for Designation of Consortia as a Participating Jurisdiction for the HOME Program | 3/7/2014 |  | X
35. Operating Guidance for Implementing FY 2012 HOME Appropriation Requirements | 5/8/2012 |  | X
36. Relocation and Real Property Acquisition Requirements To Assist With Recovery and Relief for Presidentially Declared Disaster Areas | 2/26/2008 |  | X
37. Procedures for Designation of Consortia as a Participating Jurisdiction for the HOME Program (Supersedes CPD Notice 07-04) | 2/11/2008 |  | X
38. Environmental Review Processing for Emergency Solutions Grants (ESG) Programs FY 2012 | 6/15/2012 | X |
39. Procedural Guidance for Fiscal Year 2017 HOPWA Permanent Supportive Housing Renewal Grant Applications | 2/16/2017 |  | X
40. Implementation of the Housing Opportunity Through Modernization Act Changes to the Housing Opportunities for Persons With AIDS Program | 11/1/2016 |  | X
41. Procedural Guidance for Fiscal Year 2016 HOPWA Permanent Supportive Housing Renewal Grant Applications | 3/21/2016 |  | X
42. Appropriate Placement for Transgender Persons in Single-Sex Emergency Shelters and Other Facilities | 2/20/2015 | X |
43. Standards for Fiscal Year 2015 HOPWA Permanent Supportive Housing Renewal Grant Applications | 1/20/2015 |  | X
44. Notice on Appeals for the FY 2013-FY 2014 Continuum of Care (CoC) Program Competition | 1/28/2014 | X |
45. Notice on Appeals for the FY2012 Continuum of Care (CoC) Program Competition | 1/18/2013 | X |
46. Closeout Instructions for HPRP Grants (HPRP Closeout Notice) | 7/13/2012 | X |
47. Notice on Limitation on Use of Funds To Serve Persons Defined as Homeless Under Other Federal Laws | 1/17/2012 | X |
48. Standards for FY 2010 HOPWA Permanent Supportive Housing Renewal Grant Applications | 12/23/2009 |  | X
49. Standards for FY 2009 HOPWA Permanent Supportive Housing Renewal Grant Applications | 1/27/2009 |  | X
50. Standards for FY 2008 HOPWA Permanent Supportive Housing Renewal Grant Applications | 2/28/2008 |  | X
51. Implementing Risk Analysis for Monitoring Community Planning and Development Grant Programs in FY 2008 | 10/19/2007 |  | X
52. Implementing Risk Analysis for Monitoring Community Planning and Development Grant Programs in FY 2007 | 10/23/2006 |  | X
53. Implementing Risk Analysis for Monitoring Community Planning and Development Grant Programs in FY 2006 | 9/12/2005 |  | X
54. Implementing Risk Analysis for Monitoring Community Planning and Development Grant Programs in FY 2005 | 10/28/2004 |  | X
55. Implementing Risk Analysis for Monitoring Community Planning and Development Grant Programs in FY 2003 | 12/19/2002 |  | X

Appendix D—Special Needs Assistance Program
Name of document | Date | Remove | Arch.
1. Permanent Housing Placement Services Fact Sheet | 4/1/2008 | X |
2. Short-Term Rent, Mortgage, and Utility (STRMU) Assistance Fact Sheet | 10/2008 | X |
3. 2007 CoC Debriefing Score Summary | 3/18/2009 | X |
4. 2008 HOPWA Formula Performance Grant Agreement Operating Instructions | 6/1/2009 | X |
5. Notice PIH 2008-37: Reporting Requirements for HUD VASH | 6/16/2009 | X |
6. HPRP Fund Formula Allocations | 6/17/2010 | X |
7. HPRP Substantial Amendment Form (HUD-40119) | 7/14/2010 | X |
8. HPRP Certifications | 7/22/2010 | X |
9. Homelessness Prevention and Rapid Re-Housing Program (HPRP) Opportunities for HOPWA Grantees & Sponsors | 9/30/2010 | X |
10. New HPRP Fact Sheet for HOPWA Grantees | 10/1/2010 | X |
11. HPRP QPR Questions Template | 10/1/2010 | X |
12. Rural CoC Guidebook | 10/1/2010 | X |
13. HPRP QPR Data Elements—OMB-Approved | 10/5/2010 | X |
14. First Quarter 2009 Homelessness Pulse Project Report | 10/26/2010 | X |
15. HMIS Recipient Reporting Data Model v.3 | 10/27/2010 | X |
16. Second Quarter 2009 Homelessness Pulse Project Report | 10/27/2010 | X |
17. 2009 HOPWA Formula Performance Grant Agreement Operating Instructions | 2/1/2011 | X |
18. HPRP IPR/QPR Supplemental Guidance—Avoiding Common Errors in e-snaps | 8/22/2011 | X |
19. Third Quarter 2009 Homelessness Pulse Project Report | 9/1/2011 | X |
20. Using IDIS OnLine for the Emergency Shelter Grants Program (Part 1: Setting Up Projects and Activities, Funding Activities) | 9/1/2011 | X |
21. Strategies for Improving Homeless People's Access to Mainstream Benefits and Services | 9/30/2011 | X |
22. Staff Certification of Eligibility for HPRP Assistance | 10/11/2011 | X |
23. Announcement of Funding Awards for the HUD-VASH Program for FY 2008 and 2009 | 11/2011 | X |
24. 2010 HOPWA Formula Operating Instructions | 11/1/2011 | X |
25. e-snaps Training Guide: HPRP Quarterly Performance Reporting | 11/18/2011 | X |
26. IDIS Instructions for HPRP Grantees | 11/18/2011 | X |
27. HPRP Area Median Income (AMI) Limits—Changes Between 2009 and 2010 | 2/3/2012 | X |
28. HUD-HHS Joint Letter on Recovery Act Funds—HPRP and TANF | 3/5/2012 | X |
29. Notice of FY 2009 Implementation of the Veterans Homelessness Prevention Demonstration Program | 5/21/2012 | X |
30. HUD Press Release: HUD and VA Launch $15 Million Demonstration Program to Prevent Veterans Homelessness | 6/8/2012 | X |
31. HPRP QPR Instructions | 8/2/2012 | X |
32. e-snaps APR Help: For Organizations Using e-snaps for the First Time | 8/6/2012 | X |
33. e-snaps APR Help: Instructions for Adding/Deleting Users | 8/6/2012 | X |
34. HUD-VASH Notice to Continuums of Care | 8/20/2012 | X |
35. HPRP QPR Reporting Updates—Q5 | 10/1/2012 | X |
36. Measuring Performance of Homeless Systems Workshop 2011 | 10/26/2012 | X |
37. HEARTH Amendments to McKinney-Vento Act—The Transition Issues Workshop | 10/26/2012 | X |
38. HEARTH Amendments to McKinney-Vento Act—The Transition Issues Workshop Exercise 2 | 10/29/2012 | X |
39. HMIS Informed Consent Statement | 12/3/2012 | X |
40. Rural Governance and Management Handout 1 | 2/14/2013 | X |
41. Rural Governance and Management Handout 2 | 3/2013 | X |
42. Self Sufficiency Outcomes Matrix | 4/2014 | X |
43. Ladder of Inference and Protocols for Skillful Inquiry | 5/2014 | X |
44. e-snaps APR Help: Authorized Representative Changes | 7/18/2014 | X |
45. APR Guidance for CoC Grants with DV Providers | 3/16/2015 | X |
46. 2011 HOPWA Formula Operating Instructions | 4/2015 | X |
47. Post-Award Operating Instructions for the FY 2011 HOPWA Renewal Grant Awards—Performance Grant Agreement | 5/22/2015 | X |
48. IDIS Online Reports: Tools for HPRP Financial Management | 6/29/2016 | X |
49. Geographic Assignments of HPRP Desk Officers | 8/15/2017 | X |
50. Guidance on HPRP Subgrantee Data Collection and Reporting for Victim Service Providers | 9/1/2017 | X |
51. HPRP Eligibility Determination and Documentation Guidance | 2011-2017 | X |
52. Status Report on HPRP Spending Toward 2-Year Expenditure Deadline Sorted by Grantee State and by Percent of Funds Drawn | 1/2008 | X |
53. Status Report on HPRP Spending Toward 2-Year Expenditure Deadline Sorted by Percent of Funds Drawn | 1/2008 | X |
54. Status Report on HPRP Spending Toward 2-Year Expenditure Deadline Sorted by Projected Gap | 2/26/2008 | X |
55. Notice PIH 2011-53: Reporting and Portability Requirements for the HUD-VASH Program | 3/1/2008 | X |
56. Notice PIH 2011-50: Project Basing HUD VASH | 7/1/2008 | X |
57. HPRP APR Questions Template | 7/1/2008 | X |
58. Post-Award Operating Instructions for the FY 2011 HOPWA New Projects Competitive Awards | 10/2008 | X |
59. e-snaps HPRP APR Guidebook | 7/1/2009 | X |
60. HOPWA Financial Management Online Training Overview Webinar | 11/2009 | X |
61. 2012 CoC Check-up Self Assessment Surveys | 11/2009 | X |
62. HPRP APR Aggregation Tool | 3/29/2010 | X |
63. Instructions for the Continuum of Care (CoC) Lead | 8/2010 | X |
64. Guidance on Pulse Project | 10/26/2010 | X |
65. Calculating Unmet Need for Homeless Individuals and Families | 10/27/2010 | X |
66. FY 2012 HOPWA Formula Operating Instructions | 10/27/2010 | X |
67. Notice on Limitation on Use of Funds to Serve Persons Defined as Homeless Under Other Federal Laws | 10/27/2010 | X |
68. Video Message from HUD Secretary Donovan Message to HUD's Emergency Solutions Grants (ESG) Recipients on the Importance of Rapid Re-Housing | 10/27/2010 | X |
69. FY 2012 SNAPS Programs Updates | 3/17/2011 | X |
70. Checklist of Requirements for the ESG Substantial Amendment to the FY 2011 Annual Action Plan (Appendix B) | 3/27/2011 | X |
71. Post-Award Operating Instructions for the Fiscal Year (FY) 2012 HOPWA Renewal Grant Awards—Performance Grant Agreement | 6/24/2011 | X |
72. The Homeless Definition and Eligibility for SHP, SPC, and ESG | 11/18/2011 | X |
73. Using IDIS for Emergency Shelter Grants Program and ESG Program | 11/18/2011 | X |
74. Submitting a Final HPRP Report in FederalReporting.gov and e-snaps | 12/1/2011 | X |
75. HEARTH Act Implementation Updates | 1/5/2012 | X |
76. FY 2012 Grant Inventory Worksheet (GIW) Instructions and Rental Assistance Budget Worksheet | 1/17/2012 | X |
77. CoC Grant Inventory Worksheet (GIW) Instructional Guide | 2/13/2012 | X |
78. Programmatic Crosswalk of Changes: CoC, SHP, SPC Program Regulations | 3/2/2012 | X |
79. FY 2012 Geo Codes and Preliminary Pro Rata Need Amounts | 4/4/2012 | X |
80. Leasing and Rental Assistance Tool: Transition Guidance for Existing SHP Grantees Using Leasing Funds for Transitional or Permanent Housing | 7/2012 | X |
81. Homelessness Prevention and Rapid Re-Housing Assistance: A Comparison of HPRP and ESG Requirements | 7/27/2012 | X |
82. Continuum of Care Check-up: 2012 Participation Summary | 8/2012 | X |
83. FY 2013 Transportation, Housing and Urban Development Funding Bill Appropriations Report | 8/2012 | X |
84. HPRP Reporting Periods and Deadlines | 11/27/2012 | X |
85. Status Report on HPRP Spending Toward 3-Year Expenditure Deadline Sorted by Projected Gap | 11/27/2012 | X |
86. Status Report on HPRP Spending Toward 3-Year Expenditure Deadline Sorted by Percent of Funds Drawn | 12/5/2012 | X |
87. Status Report on HPRP Spending Toward 3-Year Expenditure Deadline Sorted by Grantee State and by Percent of Funds Drawn | 12/10/2012 | X |
88. Fair Market Rent and Income Limits Lookup Mobile Application | 12/12/2012 | X |
89. CoC Governance Crosswalk of Changes: CoC Program, SHP, and S+C Program Regulations | 12/31/2012 | X |
90. FY 2012 CoC Program Competition CoC Ranking Tool | 2/7/2013 | X |
91. 2013 PIT Count Poster | 6/23/2013 | X |
92. RAD Mod Rehab—PBRA HAP Part I | 7/15/2013 | X |
93. HOPWA Financial Management Training for HOPWA Grantees | 9/1/2013 | X |
94. HPRP Grantee Contact Information | 1/6/2014 | X |
95. Rural Housing Stability Assistance Program Fact Sheet | 4/2/2014 | X |
96. HPRP Frequently Asked Questions (FAQs) | 7/22/2014 | X |
97. ESG CAPER Aggregation Tool | 9/26/2014 | X |
98. FY 2013 Geo Codes and Preliminary Pro Rata Need Amounts | 11/6/2014 | X |
99. FY 2013 CoC Program Competition CoC Ranking Tool | 3/6/2015 | X |
100. FY 2013 Continuum of Care (CoC) Program Competition: CoC Annual Renewal Demand (ARD) and ARD Less 5 Percent | 3/6/2015 | X |
101. Changes in ESG Recipient Funding Status Between FY 2012 and FY 2015 | 4/24/2015 | X |
102. FY 2013-FY 2014 Continuum of Care Application: Additional Guidance for Questions 3A, Objectives 1 through 4 | 5/5/2015 | X |
103. Approved PIT Count Data for the FY 2013-FY 2014 NOFA | 5/8/2015 | X |
104. CoC Program SSO/Housing Component Decision Tool | 9/3/2015 | X |
105. Letter from Ann Oliva to Grant Recipients, CoC Leaders and Stakeholders | 9/3/2015 | X |
106. FY 2014 Geo Codes and Preliminary Pro Rata Need Amounts | 9/10/2015 | X |
107. FY 2014 CoC Program Competition CoC Ranking Tool | 11/2015 | X |
108. 2015 PIT Count Poster | 11/2015 | X |
109. FY 2014 CoC Preliminary Pro Rata Need (PPRN), Annual Renewal Demand (ARD), and ARD Less 2 Percent Amounts | 11/10/2015 | X |
110. FY 2015 Geo Codes and Preliminary Pro Rata Need Amounts | 4/21/2016 | X |
111. FY 2015 CoC Merger Financial Worksheet | 4/27/2016 | X |
112. FY 2015 Geo Codes Claimed and Un-claimed | 5/2016 | X |
113. Letter from HUD to PHA Executive Directors on Increasing HUD-VASH Utilization | 8/18/2016 | X |
114. Memo: Use of HOPWA Funds for Participation at 2015 HIV/AIDS Conferences | 7/20/2016 | X |
115. FY 2013 CoC Start Up Trainings: Trainers Guide | 7/22/2016 | X |
116. ESG-CAPER CSV Requirements | 7/29/2016 | X |
117. Letter from HUD to PHA Executive Directors on HUD-VASH Extraordinary Administrative Fees | 8/18/2016 | X |
118. APR Generation Tool Version 3.7 | 12/15/2016 | X |
119. Memo: Use of HOPWA Grant Funds for Participation at the 2016 National Conference on Social Work and HIV/AIDS | 12/15/2016 | X |
120. eCart CSV Export Submission Steps for Subrecipients | 7/5/2017 | X |
121. eCart (ESG-CAPER Annual Reporting Tool) FAQs | 7/13/2017 | X |
122. Memo: Use of HOPWA Grant Funds for Participation at the HOPWA Affinity Listening Session in Conjunction with the 2016 National Ryan White Conference on Care and Treatment | 7/14/2017 | X |
123. Memo: Use of HOPWA Grant Funds for Participation at the 2016 United States Conference on AIDS | 7/21/2017 | X |
124. APR Generation Tool Version 4.1 | 8/25/2017 | X |
125. eCart (ESG-CAPER Annual Reporting Tool) and Guide—Version 5 | 9/20/2017 | X |
126. Memo: Use of HOPWA Grant Funds for Participation at the 2017 National Conference on Social Work and HIV/AIDS | 5/08/2017 | X |
127. FY 2017 CoC Competition Project Application Templates | 5/1/2017 | X |
128. CPD Memo: Use of HOPWA Grant Funds for Participation at the 2017 United States Conference on AIDS | 9/1/2017 | X |

Appendix E—Housing/Fha Mortgagee Letters
Name of document | Date | Remove | Arch.
1. 2017-02, Annual Base City High Cost Percentage and High Cost Area Revisions for 2016 | 01/11/2017 |  | X
2. 2015-28, Annual Base City High Cost Percentage and High Cost Area Revisions for 2015 | 11/18/2015 |  | X
3.2014-14, Annual Base City High Cost Percentage and High Cost Area Revisions for 2014 | 07/07/2014 |  | X
4. 2013-30, Annual Base City High Cost Percentage and High Cost Area Revisions for 2013 | 09/09/2013 |  | X
5. 2012-09, Annual Base City High Cost Percentage and High Cost Area Revisions for 2012 | 04/26/2012 |  | X
6. 2011-24, Annual Base City High Cost Percentage and High Cost Area Revisions for 2011 | 07/22/2011 |  | X
7. 2010-31, Annual Base City High Cost Percentage and High Cost Area Revisions for 2010 | 09/02/2010 |  | X
8. 2009-33, Annual Base City High Cost Percentage Revisions Effective January 1, 2009 | 09/18/2009 |  | X
9. 2008-04, FHA Multifamily Statutory Loan Limit Adjustments and Changes in Annual Base City High Cost Percentage for FHA-Insured Multifamily Housing in High-Cost Areas | 02/11/2008 |  | X
10. 87-2 Supplemental, Corrections Needed for Errors in Reporting on the 90 or More Days Delinquent Loan Report, Single Family Default Monitoring System (SFDMS) | 07/27/1987 |  | X
11. 80-33, Housing and Community Development Amendments of 1979—Section 245 | 08/07/1980 |  | X
12. 79-15, Single Family Coinsurance | 08/01/1979 |  | X
13. 78-8, Amendatory Clause for Sales Contracts | 06/12/1978 |  | X

Appendix F—Housing/FHA Notices and Other Guidance
Name of document | Date | Remove | Arch.
1. 2017-06 Annual Revisions to Base City High Cost Percentage, High Cost Area and Per Unit Substantial Rehabilitation Threshold for 2017 | 08/31/2017 |  | X
2. 2017-02 Annual Base City High Cost Percentage and High Cost Area Revisions for 2016 | 01/11/2017 |  | X
3. H 2016-07/PIH 2016-12 Funding Availability for Tenant-Protection Vouchers for Certain at Risk Households in Low-Vacancy Areas—FY16 | 08/18/2016 |  | X
4. 2015-11 Annual Base City High Cost Percentage and High Cost Area Revisions for 2015 | 11/18/2015 |  | X
5. 2015-07 Funding Availability for Tenant-Protection Vouchers for Certain At-Risk Households in Low-Vacancy Areas—Fiscal Year 2015 | 04/23/2015 |  | X
6. 2014-15 Passbook Savings Rate Effective February 1, 2015 and Establishing Future Passbook Savings Rates | 10/31/2014 |  | X
7. 2014-08 Annual Base City High Cost Percentage and High Cost Area Revisions for 2014 | 07/07/2014 |  | X
8. 2014-07 Funding for Tenant-Protection Vouchers for Certain At-Risk Households in Low-Vacancy Areas—2014 Appropriations Act | 05/20/2014 |  | X
9. 2014-04 Funding for Tenant-Protection Vouchers for Certain At-Risk Households in Low-Vacancy Areas—Revision | 02/04/2014 |  | X
10. 2013-27 Annual Base City High Cost Percentage and High Cost Area Revisions for 2013 | 09/09/2013 |  | X
11. 2013-04 Fiscal Year 2013 Interest Rate for Section 202 and Section 811 Capital Advance Projects | 02/06/2013 |  | X
12. 2012-15 Funding for Tenant-Protection Vouchers for Certain At-Risk Households in Low-Vacancy Areas—Request for Comments | 09/05/2012 |  | X
13. 2012-07 Annual Base City High Cost Percentage and High Cost Area Revisions for 2012 | 04/24/2012 |  | X
14. 2011-28 Fiscal Year 2010 Annual Operating Cost Standards—Section 202 Supportive Housing for the Elderly and Section 811 Supportive Housing for Persons with Disabilities Programs | 10/04/2011 |  | X
15. 2011-18 Updated Processing Guidance for the Section 202 Supportive Housing for the Elderly and Section 811 Supportive Housing for Persons with Disabilities Programs | 08/15/2011 |  | X
16. 2011-13 Annual Base City High Cost Percentage and High Cost Area Revisions for 2011 | 07/22/2011 |  | X
17. 2010-23 Extension of Housing Notice H 09-15, Implementation of the Violence Against Women and Justice Department Reauthorization Act of 2005 for the Multifamily Project-Based Section 8 Housing Assistance Payments Program | 11/09/2010 |  | X
18. 2010-22 Guidelines for Assumption, Subordination, or Assignment of Mark to- Market (M2M) Program Loans in Transfer of Physical Assets (TPA) and Refinance Transactions | 09/30/2010 |  | X
19. 2010-20 Annual Base City High Cost Percentage and High Cost Area Revisions for 2010 | 09/02/2010 |  | X
20. 2010-03 Fiscal Year 2009 Annual Operating Cost Standards—Section 202 Supportive Housing for the Elderly and Section 811 Supportive Housing for Persons with Disabilities Programs | 01/11/2010 |  | X
21. 2009-19 Fiscal Year 2009 Policy for Capital Advance Authority Assignments, Instructions and Program Requirements for the Section 202 and Section 811 Capital Advance Programs, Application Processing and Selection Instructions, and Processing Schedule | 12/07/2009 |  | X
22. 2009-15 Implementation of the Violence Against Women and Justice Department Reauthorization Act of 2005 for the Multifamily Project-Based Section 8 Housing Assistance Payments Program | 10/01/2009 |  | X
23. 2009-14 Multifamily Housing Accelerated Processing Guide: Chapter 9, Environmental Review | 09/18/2009 |  | X
24. 2008-08 Fiscal Year 2008 Annual Operating Cost Standards—Section 202 Supportive Housing for the Elderly and Section 811 Supportive Housing for Persons with Disabilities Programs | 10/02/2008 |  | X
25. 2008-07 Implementation of the Violence Against Women and Justice Department Reauthorization Act of 2005 for the Multifamily Project-Based Section 8 Housing Assistance Payments Program | 09/30/2008 |  | X
26. 2008-06 Fiscal Year 2008 Policy for Capital Advance Authority Assignments, Instructions and Program Requirements for the Section 202 and Section 811 Capital Advance Programs, Application Processing and Selection Instructions, and Processing Schedule | 09/23/2008 |  | X
27. 2008-02 FY 2008 Grant Extension Procedures for Service Coordinator and Congregate Housing Services Program Grantees | 05/12/2008 |  | X
28. 2008-01 Fiscal Year 2008 Interest Rate for Section 202 and Section 811 Capital Advance Projects | 04/29/2008 |  | X

Appendix F—Housing/FHA Notices and Other Guidance
Name of document | Date | Remove | Arch.
1. “The Facts” newsletter, June 2017—Issue 13 | 6/2017 | X |
2. “The Facts” newsletter, March 2017—Issue 12 | 3/2017 | X |
3. “The Facts” newsletter, September 2016—Issue 11 | 9/2016 | X |
4. “The Facts” newsletter, April 2016—Issue 10: Volume 7 | 4/2016 | X |
5. “The Facts” newsletter, November 2015—Issue 9: Volume 6 | 11/2015 | X |
6. “The Facts” newsletter, May 2015—Issue 8: Volume 5 | 5/2015 | X |
7. “The Facts” newsletter, February 2015—Issue 7: Volume 4 | 2/2015 | X |
8. “The Facts” newsletter, November 2014—Issue 6: Volume 3 | 11/2014 | X |
9. “The Facts” newsletter, July 2014—Issue 5: Volume 2 | 7/2014 | X |
10. “The Facts” newsletter, April 2014—Issue 4: Volume 1 | 4/2014 | X |
11. “The Facts” newsletter, April 2013—Issue 3: Volume 1 | 4/2013 | X |
12. “The Facts” newsletter, June 2011—Issue 2: Volume 1 | 6/2011 | X |
13. “The Facts” newsletter, February 2011—Issue 1: Volume 1 | 2/2011 | X |

[FR Doc. 2019-06757 Filed 4-4-19; 8:45 am]

BILLING CODE 4210-67-P